DEPARTMENT OF COMMERCE

Foreign-Trade Zones Board

[B-35-2020]

Foreign-Trade Zone (FTZ) 105—Providence, Rhode Island; Authorization of Production Activity; Night Vision Technology Solutions, LLC; (Night Vision Camera Systems); Jamestown, Rhode Island

On May 29, 2020, Night Vision Technology Solutions, LLC submitted a notification of proposed production activity to the FTZ Board for its facility within Subzone 105B, in Jamestown, Rhode Island.

The notification was processed in accordance with the regulations of the FTZ Board (15 CFR part 400), including notice in the Federal Register inviting public comment (85 FR 35261, June 9, 2020). On September 28, 2020, the applicant was notified of the FTZ Board's decision that no further review of the activity is warranted at this time. The production activity described in the notification was authorized, subject to the FTZ Act and the FTZ Board's regulations, including Section 400.14.

Dated: September 28, 2020.
Andrew McGilvray,
Executive Secretary.

[FR Doc. 2020-21825 Filed 10-1-20; 8:45 am]

BILLING CODE 3510-DS-P